DEPARTMENT OF HOUSING AND URBAN DEVELOPMENT

[Docket No. FR-4565-N-29]

Notice of Proposed Information Collection: Comment Request; Adjustable Rate Mortgages (ARMS)

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: January 16, 2001.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8001, Washington, DC 20410.

FOR FURTHER INFORMATION CONTACT: Vance T. Morris, Director, Office of Single Family Program Development, Department of Housing and Urban Development, 451 7th Street SW., Washington, DC 20410, telephone (202) 708-2121 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Adjustable Rate Mortgages (ARMS).

OMB Control Number, if applicable: 2502-0322.

Description of the need for the information and proposed use: This request for OMB review involves an extension of an approved information collection for Adjustable Rate Mortgages or ARMS (OMB control number 2502-0322). The National Housing and Urban-Rural Recovery Act of 1983 (HURRA) requires that lenders, at the time of loan approval, provide the borrower with a written explanation of the ARM's features. Additionally, HURRA requires that the lender provide an annual notification of the adjustment in the interest rate. These disclosures are meant to ensure borrowers are fully and timely notified of their financial obligations under the terms of the mortgage.

Agency form numbers, if applicable: None.

Estimation of the total numbers of hours needed to prepare the information collection including number of respondents, frequency of response, and hours of response: The estimated number of respondents is 20,000 which will generate 100,000 responses, frequency of response is on occasion, the estimated time per response is .07 hour, and the total annual burden requested is 7,000 hours.

Status of the proposed information collection: Extension of currently approved collection.

Authority: The Paperwork Reduction Act of 1995, 44 U.S.C., Chapter 35, as amended.

Dated: November 7, 2000.
William C. Apgar,
Assistant Secretary for Housing—Federal Housing Commissioner.

[FR Doc. 00-29097 Filed 11-14-00; 8:45 am]

BILLING CODE 4210-27-M